DEPARTMENT OF THE INTERIOR

Fish and Wildlife Service

50 CFR Part 17

[Docket No. FWS-HQ-ES-2023-0053; FXES1111090FEDR-245-FF09E22000]

RIN 1018-BG55

Endangered and Threatened Wildlife and Plants; Endangered Species Status for Sira Curassow and Southern Helmeted Curassow

AGENCY: Fish and Wildlife Service, Interior.

ACTION: Final rule.

SUMMARY: We, the U.S. Fish and Wildlife Service (Service), determine endangered species status under the Endangered Species Act of 1973 (Act), as amended, for the Sira curassow (Pauxi koepckeae) and southern helmeted curassow (Pauxi unicornis), two bird species from South America. This rule extends the protections of the Act to these species.

DATES: This rule is effective August 26, 2024.

ADDRESSES: This final rule is available on the internet at https://www.regulations.gov. Comments and materials we received are available for public inspection at https://www.regulations.gov at Docket No. FWS-HQ-ES-2023-0053.

Availability of supporting materials: Supporting materials we used in preparing this rule, such as the species status assessment report, are available at https://www.regulations.gov at Docket No. FWS-HQ-ES-2023-0053.

FOR FURTHER INFORMATION CONTACT: Rachel London, Manager, Branch of Delisting and Foreign Species, Ecological Services Program, U.S. Fish and Wildlife Service, MS: ES, 5275 Leesburg Pike, Falls Church, VA 22041-3803; telephone 703-358-2491. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Previous Federal Actions

Please refer to the proposed listing rule (88 FR 34800) for the Sira curassow and southern helmeted curassow published on May 31, 2023, for a detailed description of previous Federal actions concerning these species.

Peer Review

A species status assessment (SSA) team prepared an SSA report for the Sira curassow and southern helmeted curassow. The SSA team was composed of Service biologists, in consultation with other species experts. The SSA report represents a compilation of the best scientific and commercial data available concerning the status of these species, including the impacts of past, present, and future factors (both negative and beneficial) affecting these species.

In accordance with our joint policy on peer review published in the Federal Register on July 1, 1994 (59 FR 34270), and our August 22, 2016, memorandum updating and clarifying the role of peer review in listing actions under the Act, we solicited independent scientific review of the information contained in the Sira curassow and southern helmeted curassow SSA report. As discussed in the proposed rule, we sent the SSA report to five independent peer reviewers and received one response. The peer review can be found at https://www.regulations.gov under Docket No. FWS-HQ-ES-2023-0053. In preparing the proposed rule, we incorporated the results of this review, as appropriate, into the SSA report, which was the foundation for the proposed rule and this final rule. A summary of the peer review comments and our responses can be found in the proposed rule (88 FR 34800; May 31, 2023).

Summary of Changes From the Proposed Rule

In this final rule, we make no substantive changes from the May 31, 2023, proposed rule (88 FR 34800) after considering the comments we received during the comment period.

Summary of Comments and Recommendations

In the proposed rule published on May 31, 2023 (88 FR 34800), we requested that all interested parties submit written comments on the proposal by July 31, 2023. We also contacted appropriate Federal agencies, scientific experts and organizations, and other interested parties and invited them to comment on the proposal. All substantive information received during comment periods has either been incorporated directly into this final determination or is addressed below.

Public Comments

We considered all comments and information we received from the public during the comment period for the proposed listing of the Sira curassow and southern helmeted curassow. We received a total of five comments from the public, all of which support the proposed listing of these species as endangered.

One commenter suggested that both species may be in international trade because there may be demand for species in the Pauxi genus, particularly for ornamental use of the species' helmet (casque). The commenter provided some examples of trade in Pauxi species; however, the species involved were either not the Sira or southern helmeted curassow or the species were not determined. While the commenter noted some efforts to regulate and monitor international trade in southern helmeted curassow by other countries, international trade has not been noted for the Sira curassow or southern helmeted curassow in assessments of these species (BLI 2023a and 2023b, unpaginated; IUCN 2023b and IUCN 2023c, unpaginated). Our evaluation of the best available data does not indicate international trade is a threat to either species. However, as explained in further detail below, after evaluating the best scientific and commercial data available regarding threats to the species and assessing the cumulative effect of the threats under the Act's section 4(a)(1) factors, we determined endangered species status for each species as proposed.

Four of the five public comments suggested that the length of time between when we were petitioned to list the southern helmeted curassow in 1991 and the proposed listing in 2023 is too long, particularly because we had determined the species was warranted for listing in 1994 but precluded by other priorities. We recognize the length of time between first making the southern helmeted curassow a candidate species and this final listing rule. For more information on our process and progress making listing decisions for foreign species, see the annual review of candidate species, annual notification of findings on resubmitted petitions, and description of progress on listing actions (88 FR 41560; June 27, 2023). In June 2023, the Service released its most recent Foreign Species Workplan for addressing the Act's foreign listing decisions, which is available online at: https://www.fws.gov/project/foreign-species-listing-workplan.

I. Final Listing Determination

Background

A thorough review of the taxonomy, life history, and ecology of the Sira curassow (Pauxi koepckeae) and southern helmeted curassow (or horned curassow; Pauxi unicornis) is presented in the SSA report (version 1; Service 2023, pp. 2-8).

The Sira curassow, which is endemic to central Peru, and southern helmeted curassow, which is endemic to central Bolivia, are gallinaceous birds (relating to the order Galliformes of heavy-bodied, largely terrestrial birds) in the Cracidae family (subfamily Cracinae; del Hoyo 1994, in Hosner et al. 2016, p. 6; del Hoyo et al. 2020a, unpaginated). Both species are large (83-94 centimeters (32-37 inches) in length) and relatively heavy-bodied (about 3.6 kilograms (8 pounds)) with bright red bills and a pale blue “helmet” (casque) atop their heads (del Hoyo et al. 2020b, unpaginated).

Both curassow species occur on the eastern side of the Andes Mountains of South America, although their ranges do not overlap and are separated by more than 1,000 kilometers (km) (621 miles (mi)) (Gastañaga et al. 2007, p. 63). The Sira curassow is resident in cloud forests at mid to high elevation (1,100 to 1,500 meters (m) (3,609 to 4,921 feet (ft)) above sea level (asl); Begazo 2022, unpaginated; Beirne et al. 2017, p. 150; Gastañaga et al. 2011, p. 268) and is known only from the Cerros del Sira in central Peru that is an isolated mountain outcrop of the Peruvian Andes. Almost all the species' range is within the El Sira Communal Reserve (Birdlife International (BLI) 2023a, unpaginated; Gastañaga et al. 2011, p. 269; Gastañaga et al. 2007, p. 63; Tobias and del Hoyo 2006, p. 61). The southern helmeted curassow is resident at lower elevations (400 to 1,400 m (1,312 to 4,593 ft) asl) in upper tropical and lower montane zones in central Bolivia (Herzog and Kessler 1998, pp. 46-47; Cox et al. 1997, p. 200; Cordier 1971, p. 10; Birds of Bolivia 2019, unpaginated; Beirne et al. 2017, p. 150), although most observations are between 500 and 900 m (1,640 to 2,953 ft) asl (Armonía 2021, p. 3). The species occurs only within three national parks in central Bolivia: Amboró, Carrasco, and Isiboro-Securé Indigenous Territory and National Park (TIPNIS) (BLI 2023b, unpaginated).

Both the Sira curassow and southern helmeted curassow are endemic to small areas in relatively narrow elevational bands and are considered rare, locally uncommon with densities estimated at less than one individual per square kilometer, and their populations are decreasing (BLI 2023a and 2023b, unpaginated). The Sira curassow was surveyed in 2006 and 2008, but rangewide surveys have not occurred for this species (Gastañaga et al. 2011, p. 273). The species was observed in one population at four locations, all located within 30 km (18.6 mi) of each other (Gastañaga et al. 2011, p. 273). The Sira curassow's population is very small (50-249 mature individuals) and occurs within 550 square kilometers (km²) (212 square miles (mi²)) (BLI 2023a, unpaginated; MacLeod and Gastañaga in litt. 2014, cited in BLI 2018a, unpaginated). The southern helmeted curassow was surveyed in 2018 and 2021 in the three national parks where the species resides. The southern helmeted curassow's population is also small and is less than what it was historically, including declining by 90 percent over the past 20 years (Boorsma 2023, pers. comm.). The population is currently estimated at 1,000-4,999 individuals within 10,700 km² (4,131 mi²) (BLI 2023b, unpaginated; Armonía 2018, pp. 3-4; Boorsma 2023, pers. comm.). Information about the status of both species populations is supplemented with anecdotal information based on interviews with local indigenous communities. The following table presents population information for each species:

Table—Sira Curassow and Southern Helmeted Curassow Population Size, Country of Origin, and Distribution
Species | Population | Country | Range/distribution
Sira curassow | 50 to 249 mature individuals | Peru | Cerros del Sira; in the El Sira Communal Reserve.
Southern helmeted curassow | 1,000 to 4,999 individuals | Bolivia | Amboró and Carrasco National Parks and Isiboro-Securé Indigenous Territory and National Park (TIPNIS).

The Sira curassow and southern helmeted curassow are both large, ground-dwelling birds very similar in appearance and life history. Large body size in tropical birds is often associated with large territory size, small population size, and low reproductive rate (Pearson et al. 2010, p. 508). The Sira curassow and southern helmeted curassow likely take at least 2 to 3 years to reach sexual maturity and have low reproductive outputs as females lay one egg per clutch (Cox et al. 1997, p. 207; Banks 1998, p. 154). We are not aware of how many clutches per year these species produce in the wild; however, in captivity, the southern helmeted curassow produced four clutches within 1 year, each with one egg per clutch (Banks 1998, p. 154). Generation time, which is the average time between two consecutive generations in lineages of a population, is estimated at 14.5 years (BLI 2023a and 2023b, unpaginated). Detailed information on the biology of both species is limited because, despite their relatively large size, these species are difficult to detect and not well studied.

Regulatory and Analytical Framework

Regulatory Framework

Section 4 of the Act (16 U.S.C. 1533) and the implementing regulations in title 50 of the Code of Federal Regulations set forth the procedures for determining whether a species is an endangered species or a threatened species, issuing protective regulations for threatened species, and designating critical habitat for endangered and threatened species. On April 5, 2024, jointly with the National Marine Fisheries Service, the Service issued a final rule that revised the regulations in 50 CFR part 424 regarding how we add, remove, and reclassify endangered and threatened species and what criteria we apply when designating listed species' critical habitat (89 FR 24300). On the same day, the Service published a final rule revising our protections for endangered species and threatened species at 50 CFR part 17 (89 FR 23919). These final rules are now in effect and are incorporated into the current regulations. Our analysis for this final decision applied our current regulations. Given that we proposed listing the Sira curassow and southern helmeted curassow under our prior regulations (revised in 2019), we have also undertaken an analysis of whether our decision would be different if we had continued to apply the 2019 regulations; we concluded that the decision would be the same. The analyses under both the regulations currently in effect and the 2019 regulations are available on https://www.regulations.gov.

The Act defines an “endangered species” as a species that is in danger of extinction throughout all or a significant portion of its range, and a “threatened species” as a species that is likely to become an endangered species within the foreseeable future throughout all or a significant portion of its range. The Act requires that we determine whether any species is an endangered species or a threatened species because of any of the following factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

These factors represent broad categories of natural or human-caused actions or conditions that could have an effect on a species' continued existence. In evaluating these actions and conditions, we look for those that may have a negative effect on individuals of the species, as well as other actions or conditions that may ameliorate any negative effects or may have positive effects.

We use the term “threat” to refer in general to actions or conditions that are known to or are reasonably likely to negatively affect individuals of a species. The term “threat” includes actions or conditions that have a direct impact on individuals (direct impacts), as well as those that affect individuals through alteration of their habitat or required resources (stressors). The term “threat” may encompass—either together or separately—the source of the action or condition or the action or condition itself.

However, the mere identification of any threat(s) does not necessarily mean that the species meets the statutory definition of an “endangered species” or a “threatened species.” In determining whether a species meets either definition, we must evaluate all identified threats by considering the species' expected response and the effects of the threats—in light of those actions and conditions that will ameliorate the threats—on an individual, population, and species level. We evaluate each threat and its expected effects on the species, then analyze the cumulative effect of all the threats on the species as a whole. We also consider the cumulative effect of the threats in light of those actions and conditions that will have positive effects on the species, such as any existing regulatory mechanisms or conservation efforts. The Secretary determines whether the species meets the definition of an “endangered species” or a “threatened species” only after conducting this cumulative analysis and describing the expected effect on the species.

The Act does not define the term “foreseeable future,” which appears in the statutory definition of “threatened species.” Our implementing regulations at 50 CFR 424.11(d) set forth a framework for evaluating the foreseeable future on a case-by-case basis which is further described in the 2009 Memorandum Opinion on the foreseeable future from the Department of the Interior, Office of the Solicitor (M-37021, January 16, 2009; “M-Opinion,” available online at https://www.doi.gov/sites/doi.opengov.ibmcloud.com/files/uploads/M-37021.pdf). The foreseeable future extends as far into the future as the U.S. Fish and Wildlife Service and National Marine Fisheries Service (hereafter, the Services) can make reasonably reliable predictions about the threats to the species and the species' responses to those threats. We need not identify the foreseeable future in terms of a specific period of time. We will describe the foreseeable future on a case-by-case basis, using the best available data and taking into account considerations such as the species' life-history characteristics, threat-projection timeframes, and environmental variability. In other words, the foreseeable future is the period of time over which we can make reasonably reliable predictions. “Reliable” does not mean “certain”; it means sufficient to provide a reasonable degree of confidence in the prediction, in light of the conservation purposes of the Act.

Analytical Framework

The SSA report documents the results of our comprehensive biological review of the best scientific and commercial data regarding the status of the species, including an assessment of the potential threats to the species. The SSA report does not represent our decision on whether the species should be listed as an endangered or threatened species under the Act. However, it does provide the scientific basis that informs our regulatory decisions, which involve the further application of standards within the Act and its implementing regulations and policies.

To assess the viability of Sira curassow and southern helmeted curassow, we used the three conservation biology principles of resiliency, redundancy, and representation (Shaffer and Stein 2000, pp. 306-310). Briefly, resiliency is the ability of the species to withstand environmental and demographic stochasticity (for example, wet or dry, warm or cold years); redundancy is the ability of the species to withstand catastrophic events (for example, droughts, large pollution events), and representation is the ability of the species to adapt to both near-term and long-term changes in its physical and biological environment (for example, climate conditions, pathogens). In general, species viability will increase with increases (or decrease with decreases in) in resiliency, redundancy, and representation (Smith et al. 2018, p. 306). Using these principles, we identified the species' ecological requirements for survival and reproduction at the individual, population, and species levels, and described the beneficial and risk factors influencing the species' viability.

The SSA process can be categorized into three sequential stages. During the first stage, we evaluated the individual species' life-history needs. The next stage involved an assessment of the historical and current condition of the species' demographics and habitat characteristics, including an explanation of how the species arrived at its current condition. The final stage of the SSA involved making predictions about the species' responses to positive and negative environmental and anthropogenic influences. Throughout all of these stages, we used the best available data to characterize viability as the ability of a species to sustain populations in the wild over time. We use this data to inform our regulatory decision.

The following is a summary of the key results and conclusions from the SSA report; the full SSA report can be found at FWS-HQ-ES-2023-0053 on https://www.regulations.gov.

Summary of Biological Status and Threats

In this discussion, we review the biological condition of the species and their resources, and the threats that influence the species' current and future condition, in order to assess the species' overall viability and the risks to that viability.

The Sira curassow and southern helmeted curassow are both large, ground-dwelling birds very similar in appearance and life history. These species occur in the Yungas forests and adjacent evergreen forest, and they rely on dense to semi-open primary forested areas with relatively open understory.

Large tropical birds, such as the two curassow species, are often associated with large territory size (Pearson et al. 2010, p. 508; Thorton et al. 2012, p. 572; Rios et al. 2021, p. 418). However, the forest area or patch size required for the Sira curassow and southern helmeted curassow is unknown. These species are primarily frugivores (fruit-eaters) and require larger forested patch sizes than non-frugivores because they depend on naturally patchy resources in larger home ranges. Fragmentation into smaller forest patches could cause scarcity and a reduction of food resources within those smaller fragments. As patch size decreases, large-bodied species are generally at a disadvantage because they need more space to nest and forage compared to small-ranging species (Kattan et al. 1994, pp. 141-143; Lees and Peres 2009, pp. 286-288; Lees and Peres 2010, p. 619; Vetter et al. 2011, p. 6; Thorton et al. 2012, p. 572; Kattan et al. 2016, pp. 27-28; Rios et al. 2021, pp. 416-418). The forested and steep slopes where the species occur may provide some protection from human influence.

Hunting, habitat loss and degradation, small population size, climate change, and protected areas are the main factors that affect the species' viability throughout their ranges. Hunting is the primary factor that negatively affects the Sira curassow and southern helmeted curassow throughout their respective ranges (del Hoyo et al. 2020a, 2020b, unpaginated). Habitat loss and degradation affect both species, although to a lesser degree than hunting (Rios et al. 2021, p. 418). Limited loss of forest cover and degradation has occurred within the range of these species because of small-scale agriculture such as coca plantations and road building. However, human incursions into the protected areas are likely to increase. Because habitat loss and hunting pressure often work in tandem, further human encroachment into their habitats that results in deforestation, road building, and other land clearance creates opportunities to increase human encounters and hunting opportunities (Laurance et al. 2009, p. 662). Literature reviews of several species in the cracid family, including curassows, demonstrate that they are more likely to persist in forested landscapes with low human density and greater distance from human settlements, primarily because these forested areas would be unaffected, or minimally affected by hunting pressure (Thorton et al. 2012, p. 572; Kattan et al. 2016, pp. 27-28; Rios et al. 2021, pp. 416-418).

Climate change will result in additional loss of forested habitat for these species by shifting these species' habitat upslope, reducing these species' range because the geometric shape of mountains means there is less area on mountain slopes as elevation increases (Chen et al. 2011, entire; Freeman et al. 2018, p. 11983; Forero-Medina et al. 2011, entire; Sekercioglu et al. 2012, p. 3). A meta-analysis of existing data for a suite of taxonomic groups across multiple geographic regions and a study of tropical birds within the El Sira Communal Reserve in Peru showed a median shift to higher elevations of approximately 10 m (33 ft) per decade (Chen et al 2011, p. 1024; Forero-Medina et al. 2011, p. 4). In the case of tropical bird species in the El Sira Communal Reserve, a gradual, upward shift occurred because of changes in temperature, habitat conditions, and the availability of food resources (Forero-Medina et al. 2011, p. 4). Because birds are endothermic and may tolerate a wider range of temperatures, species that shift their ranges may be responding more to gradual changes in habitat availability, food resources based on long-lived elements of their ecosystem (trees), and response of competitors, than to temperatures, per se (Forero-Medina et al. 2011, p. 4). However, habitat expansion to newly suitable areas will not take place at the same rate as habitat loss due to climate change, especially for relatively sedentary tropical forest species (Sekercioglu et al. 2012, p. 12). Vegetation changes make it more difficult for species to find suitable habitat that will provide their preferred climate envelope and nesting and foraging needs (Forero-Medina et al. 2011, p. 4).

Almost all the Sira curassow's range is within the El Sira Communal Reserve in Peru. The southern helmeted curassow's range in Bolivia is within three national parks: Amboró, Carrasco, and TIPNIS. The protected areas where these species occur were designated by laws in Peru and Bolivia. These areas are primarily inhabited by local indigenous communities that share management responsibilities with government ministries. The protected areas have been somewhat successful at limiting the magnitude of negative effects to biodiversity within the protected-area boundaries. However, the lack of personnel and financial resources make the enforcement of the protected-area boundaries difficult, which has resulted in the loss of wildlife because of continued hunting by locals and people from outside the protected areas as well as loss of primary forest resulting from small-scale agriculture, illegal logging, and road building within the protected-area boundaries (Bucklin 2010, p. 44; Solano 2010, p. 37).

We note that, by using the SSA framework to guide our analysis of the scientific information documented in the SSA report, we have analyzed the cumulative effects of identified threats and conservation actions on the species. To assess the current and future condition of the species, we evaluate the effects of all the relevant factors that may be influencing the species, including threats and conservation efforts. Because the SSA framework considers not just the presence of the factors, but to what degree they collectively influence risk to the entire species, our assessment integrates the cumulative effects of the factors and replaces a standalone cumulative-effects analysis.

Conservation Efforts and Regulatory Mechanisms

Our evaluation of the status of the species considers the extent to which threats are reduced or removed as a result of conservation efforts or existing regulatory mechanisms.

Within Peru and Bolivia, we do not have information on whether either of these species are protected species under existing laws in their range countries. However, the Sira curassow and southern helmeted curassow reside in protected areas throughout their respective ranges. Almost all the Sira curassow's range is within the El Sira Communal Reserve in Peru. The southern helmeted curassow's range in Bolivia is within three national parks: Amboró, Carrasco, and TIPNIS.

In Peru, policies on protected areas were established in the Natural Protected Areas Act (1997), the Master Plan for Natural Protected Areas (1999), and the General Environmental Act (2005) (Solano 2010, pp. 6-7, 46-49). The primary objective of the protected areas is the conservation of biological diversity (Solano 2010, pp. 12-13). Protected areas are monitored by the Intendancy of Protected Natural Areas and managed by the National Service for Natural Protected Areas, a specialized technical body under the Ministry of the Environment (Solano 2010, p. 6; Parkswatch 2003, p. 6).

The El Sira Communal Reserve was established in 2001 by a Supreme Decree (038-2001-AG). The reserve is 616,413 hectares (ha) (1.5 million acres (ac)) and was established for the conservation of wildlife and to acknowledge the rights of indigenous communities on their lands and consider the traditions and cultures of the local communities (Solano 2010, pp. 10-15, 50; WorldBank 2007, pp. 13-15; Parkswatch 2003, p. 5). The reserve is classified as an International Union for Conservation of Nature (IUCN) category VI protected area, which is a protected area that conserves ecosystems and habitats together with associated cultural values and traditional natural-resource management systems (IUCN 2008, p. 2). A portion of the area is under sustainable natural-resource management and where low-level non-industrial use of natural resources compatible with nature conservation is seen as one of the main aims of the area (IUCN 2023a, unpaginated; UN Environment Programme 2020, unpaginated).

In Bolivia, the Political Constitution of the State (2009) defines protected areas as a common good that is part of the natural and cultural heritage of the country and that fulfills environmental, cultural, social, and economic functions for sustainable development. Likewise, the Framework Law of Mother Earth and Integral Development for Living Well (No. 300; 2012) indicates the System of Protected Areas as one of the main instruments for biodiversity (Elkins et al. 2014, p. 102; Lexivox 2023, unpaginated).

The Bolivian National Protected Area System was established in 1992 through Environmental Law No. 1333 as a collective of interlinked protected areas of different categories (Wildlife Conservation Society (WCS) 2017, unpaginated). The core of the system is the national protected areas, which include Amboró, Carrasco, and TIPNIS and cover a total of 20 percent of Bolivia. The National Service of Protected Areas (Sernap) oversees the protected areas of national interest to conserve biological and cultural diversity (Sernap 2023, unpaginated). The involvement of local and indigenous communities in park management plays a vital role to recognize the rights of indigenous and local communities to preserve their cultural identity, value systems, knowledge and traditions, and territory (WCS 2017, unpaginated).

Overall, the protected areas in Peru and Bolivia were designated by laws and have been somewhat successful at limiting the magnitude of negative effects to biodiversity within the protected-area boundaries. The protected areas are in remote areas and far from government services, which makes enforcement of the protected-area boundaries difficult due to a lack of personnel and financial resources. The lack of resources and enforcement has resulted in loss of wildlife due to continued hunting and loss of primary forest within the protected-area boundaries (Solano 2010, p. 37; Armonía 2018, p. 7).

The nonprofit, nongovernmental organization Asociatión Armonía (Armonía) has initiated educational campaigns to raise awareness and discourage hunting of both species. The program works with local and indigenous communities to protect wild bird populations through management of protected areas and reducing threats (Armonía 2018, p. 1; Gastañaga et al. 2011, p. 277; Gastañaga 2006, p. 11; Gastañaga and Hennessey 2005, p. 21).

The Sira curassow is classified as critically endangered on the IUCN Red List (IUCN 2023b, unpaginated). Sira curassow is not known to be in international trade and is not included in the Appendices to the Convention on International Trade in Endangered Species of Wild Fauna and Flora (CITES).

The southern helmeted curassow is classified as critically endangered on the IUCN Red List (IUCN 2023c, unpaginated). Trade has not been noted internationally and the species is not included in the Appendices to CITES. The species is listed on Annex D of the European Union Wildlife Trade Regulations; species listed on Annex D require the importer to complete an import-notification form.

To assess their current conditions, we considered the ecology of the Sira curassow and southern helmeted curassow and factors that influence their viability, including their resiliency, redundancy, representation, and their overall viability. We know of minimal occurrence records and both species are narrow endemics; thus, we assess resiliency, redundancy, and representation rangewide for both species.

We gauge resiliency for the Sira curassow and southern helmeted curassow by evaluating their population abundance, the availability and condition of habitat throughout their respective ranges, and these species' life-history traits that minimize their ability to rapidly recover from disturbances and population losses.

Both the Sira curassow and southern helmeted curassow are considered rare, locally uncommon, and decreasing (BLI 2023a and 2023b, unpaginated). The Sira curassow's population is very small (50-249 mature individuals). The southern helmeted curassow's population is also small; it declined by 90 percent over the past 20 years and is currently estimated at 1,000-4,999 individuals. These species are endemic to small areas in relatively narrow elevational bands. Their ranges are mostly within protected areas that are intact forest landscapes that show no to minimal signs of human alteration. However, these species' habitats are subject to some deforestation and human encroachment is increasing into protected areas because of small-scale illegal agriculture and road construction that spawns additional small-scale development. Over a 20-year period between 2000 and 2020, only 62 ha (153 ac), or 0.16 percent, of forest cover has been lost within the range of the Sira curassow. During the same 20-year period, 27,320 ha (67,509 ac), or 3.33 percent, of forest cover has been lost within the range of the southern helmeted curassow. Most of the forest-cover loss in the region is outside the range of the species and outside the protected areas where the species occur.

Hunting is ongoing and will continue in the future. Both species are more likely to persist in patches located further from settlements and in forested landscapes with low human density, primarily because these areas would be unaffected, or minimally affected, by hunting. The presence of local indigenous communities in addition to people from outside the protected areas that engage in small-scale agricultural activities or create inroads that further increase human presence into the species' habitats results in overexploitation of these species. Low rates of reproduction and slow recovery of these species' populations make it difficult to tolerate high levels of continuous hunting. Because these species are endemic to small ranges and have population sizes that are decreasing, combined with low rates of reproduction and recovery, the Sira curassow and southern helmeted curassow are not likely to be resilient to ongoing threats.

We gauge redundancy of these species by assessing the number and distribution of their populations relative to any anticipated catastrophic events within the species' ranges. Redundancy also depends on availability of quality habitat throughout these species' respective ranges. Because most of the current habitat is intact, even though the species are restricted to relatively narrow ranges, we expect the species to have some redundancy through distribution of subpopulations within their narrow ranges. An increase of fires in humid forest habitat and road building that are directly drying the landscape, combined with climate change that causes suitable habitat to shift upslope and is expected to result in the loss of a substantial amount of montane forest ecosystems within these species' ranges in the future, could be catastrophic for these species in the future. We are not aware of any other catastrophic events anticipated within the range of these species that could lead to collapse of these species' populations.

The Sira curassow is known only from the Cerros del Sira region of central Peru in the El Sira Communal Reserve. Surveys in 2006 and 2008 found the species in one population at four locations, all located within 30 km (18.6 mi) of each other (Gastañaga et al. 2011, p. 273). Because the population and range are very small, we conclude that the species has minimal redundancy. The southern helmeted curassow has moderate redundancy and is known to occur at 10 total sites in Amboró, Carrasco, and TIPNIS, the latter of which is the area that is likely to hold the largest remaining population (Armonía 2018, pp. 3-4; Armonía 2021, entire; Armonía 2022, unpaginated; Boorsma 2023, pers. comm). We have no information on the connectivity between populations (Armonía 2018, p. 7). The available data of population size and distribution for these species is minimal and there is uncertainty regarding the number of extant populations for both species throughout their ranges.

We gauge representation of these species by assessing their ability to adapt to changes in their physical and biological environments because the ability to adapt is essential for species' viability. Both species are restricted to narrow elevational bands of Yungas forests and adjacent evergreen forests on the east side of the Andes Mountains. Microhabitats that have important resources for the life history of these species are likely present within their respective ranges because the birds move in response to patchy resource availability. In 2014, these species were determined to be distinct species, but we have no information about the genetic diversity within each species and there is no information on the degree to which these species exhibit behavioral plasticity, so the ability to assess representation is limited.

As part of the SSA, we developed two future-condition scenarios to capture the range of uncertainties regarding future threats and the projected responses by the Sira curassow and southern helmeted curassow. The scenarios assumed an increased probability of forest-cover loss, continued hunting pressure, and ongoing designation of the protected areas where the species occur. The best available data indicate that both species' populations and distributions will decline in the future. However, because we have determined that the Sira curassow and southern helmeted curassow meet the definition of an endangered species based on their current conditions (see Determination of Status for the Sira Curassow and Southern Helmeted Curassow, below), we are not presenting the results of the future scenarios in this final rule. Please refer to the SSA report (Service 2023, entire) for the full analysis of future scenarios.

Determination of Status for the Sira Curassow and Southern Helmeted Curassow

Section 4 of the Act (16 U.S.C. 1533) and its implementing regulations (50 CFR part 424) set forth the procedures for determining whether a species meets the definition of an endangered species or a threatened species. The Act defines an “endangered species” as a species in danger of extinction throughout all or a significant portion of its range and a “threatened species” as a species likely to become an endangered species within the foreseeable future throughout all or a significant portion of its range. The Act requires that we determine whether a species meets the definition of endangered species or threatened species because of any of the following factors: (A) The present or threatened destruction, modification, or curtailment of its habitat or range; (B) Overutilization for commercial, recreational, scientific, or educational purposes; (C) Disease or predation; (D) The inadequacy of existing regulatory mechanisms; or (E) Other natural or manmade factors affecting its continued existence.

Status Throughout All of Its Range—Sira Curassow

We have carefully assessed the best scientific and commercial data available regarding the past, present, and future threats to the Sira curassow. The best available data indicate that the Sira curassow is a narrow endemic with a very small population size of 50 to 249 mature individuals that is decreasing (BLI 2023a, unpaginated; MacLeod and Gastañaga in litt. 2014, cited in BLI 2018a, unpaginated).

The Sira curassow is known only from the Cerros del Sira region of central Peru in the El Sira Communal Reserve and is not likely to be resilient to ongoing threats. The resiliency of the Sira curassow is based on population abundance, the availability of quality habitat throughout its range, and the species' life-history traits that minimize recovery from disturbances and population losses. The El Sira Communal Reserve has been somewhat successful at limiting the loss of forest cover from small-scale agriculture activities, although small-scale agriculture is increasing within the protected area. Over a 20-year period between 2000 and 2020, only 62 ha (153 ac), or 0.16 percent, of forest cover has been lost within the range of the species. However, the species has historically faced and continues to face hunting pressure, and human incursions into the protected area are increasing.

Precise estimates of hunting pressure on the Sira curassow do not exist given the difficulty of monitoring and documenting hunting activities. Generally, curassows rank as the highest category of avian biomass taken by subsistence hunters (Strahl and Grajal 1991, p. 51). Hunting by local indigenous communities, in addition to people from outside the protected areas that encroach into the species' habitat, results in overexploitation of the species. Literature reviews of several species in the cracid family, including curassows, demonstrate that they are more likely to occur in forested landscapes with low human density and in patches located further from settlements, primarily because these forested areas would be unaffected, or minimally affected, by hunting pressure (Kattan et al. 2016, pp. 27-28; Rios et al. 2021, pp. 416-418; Thorton et al. 2012, p. 572). The viability of the Sira curassow is likely more affected by hunting than habitat loss and degradation, although habitat loss and hunting pressure often work in tandem because incursions into forested areas for small-scale agriculture and road building create more opportunities for hunters (Rios et al. 2021, p. 418).

Climate change has caused and will cause a loss of the species' habitat, which is particularly detrimental to endemic species that are restricted to narrow elevational bands (Velasquez-Tibata et al. 2012, p. 235). Climate change shifts the species' habitat upslope, reducing the species' range because the geometric shape of mountains means there is less area on mountain slopes as elevation increases (Chen et al. 2011, entire; Freeman et al. 2018, p. 11983; Forero-Medina et al. 2011, entire; Sekercioglu et al. 2012, p. 3). Even though birds are endothermic and may tolerate a wider range of temperatures, Sira curassows are not known to have great dispersal capabilities, making them unlikely to colonize new areas if their current habitat is damaged by climate change and other anthropogenic factors (Foster 2001, p. 73).

We are not aware of the number of Sira curassow populations that occur within the limited range of the Sira curassow in the El Sira Mountains because the species is not well studied and rangewide surveys for the species do not exist, but the best available data indicate that the species has a low area of occurrence and occupancy. Because the population size and its range are very small, we find the species likely has minimal redundancy throughout its range. We are also not aware of any information about the genetic diversity in the Sira curassow, and there is no information on the degree to which the species exhibits behavioral plasticity, so the ability to assess representation is limited for the species. However, the species likely has low representation because it is endemic to the El Sira Mountains and occurs only within 550 square km² (212 mi²) in a narrow elevational band.

Overall, the species has a very small population and is considered rare and locally uncommon, and its population is decreasing (BLI 2023a, unpaginated). The species is long-lived and has a long generation time and low reproductive output. Low reproductive output in conjunction with other factors like a high degree of habitat specialization, small population size, and low vagility (ability of an organism to move freely) typically equate to low innate adaptive capacity (Thurman et al. 2020, entire). The Sira curassow's low redundancy combined with the species not likely being resilient to ongoing threats and having minimal capacity to adapt to ongoing threats limits the viability of the Sira curassow in the face of ongoing threats. After assessing the best scientific and commercial data available, we conclude that the Sira curassow currently lacks sufficient resiliency, redundancy, and representation for its continued existence to be secure.

After evaluating threats to the species and assessing the cumulative effect of the threats under the Act's section 4(a)(1) factors, we determine that the Sira curassow is in danger of extinction throughout all of its range. The species does not fit the statutory definition of a threatened species because it is currently in danger of extinction, whereas threatened species are those likely to become in danger of extinction within the foreseeable future.

Status Throughout All of Its Range—Southern Helmeted Curassow

We have carefully assessed the best scientific and commercial data available regarding the past, present, and future threats to the southern helmeted curassow. The best available data indicate that the southern helmeted curassow is a narrow endemic with a small population size of 1,000 to 4,999 mature individuals that is decreasing (BLI 2023b and 2018b, unpaginated).

The southern helmeted curassow is not likely to be resilient to ongoing threats. The species' resiliency is based on population abundance, the availability of quality habitat throughout its range, and the species' life-history traits that minimize recovery from disturbances and population losses. Even though the species resides in three national parks in central Bolivia that have been somewhat successful at limiting the loss of forest cover from small-scale agriculture activities, small-scale agriculture is increasing within the protected areas, particularly because of coca plantations. Over a 20-year period between 2000 and 2020, 27,320 ha (67,509 ac), or 3.33 percent, of forest cover has been lost within the range of the species. The southern helmeted curassow is likely more affected by hunting than habitat loss and degradation (Rios et al. 2021, p. 418). The species has historically faced and continues to face hunting pressure. Hunting increases with associated habitat loss, and human incursions into the protected areas are increasing.

Precise estimates of hunting pressure do not exist given the difficulty of monitoring and documenting hunting activities. Between 2001 and 2004, surveys showed that the then-largest known population of southern helmeted curassow declined from 20 singing males to zero because hunting associated with incursions of coca growers into the area (MacLeod et al. 2006, p. 62; MacLeod 2009, p. 16). However, in 2017-2018, curassows were observed at this site (Boorsma 2023, pers. comm.). Additionally, in TIPNIS, there are records of southern helmeted curassows being hunted and eaten by community members (Boorsma 2023, pers. comm.). Encroachment into the species' habitat, including by local indigenous communities in addition to people from outside the protected areas, results in overexploitation of the species. Curassow species are targeted by subsistence hunters and based on reviews of several cracid species, including curassows, these species are more likely to occur in forested landscapes with low human density and located further from settlements (Kattan et al. 2016, pp. 27-28; Rios et al. 2021, pp. 416-418; Thorton et al. 2012, p. 572).

Climate change has caused and will cause a loss of the species' habitat, which is particularly detrimental to endemic species that are restricted to narrow elevational bands (Velasquez-Tibata et al. 2012, p. 235). Climate change shifts the species' habitat upslope, reducing the species' range because the geometric shape of mountains means there is less area on mountain slopes as elevation increases (Chen et al. 2011, entire; Freeman et al. 2018, p. 11983; Forero-Medina et al. 2011, entire; Sekercioglu et al. 2012, p. 3). Even though birds are endothermic and may tolerate a wider range of temperatures, southern helmeted curassows are not known to have great dispersal capabilities, making them unlikely to colonize new areas if their current habitat is damaged by climate change and other anthropogenic factors (Foster 2001, p. 73).

The best available data indicate the southern helmeted curassow is known from 10 locations spread throughout the 3 national parks; we are not aware of any information regarding the connectivity between the known occurrences. Therefore, even though the species' population and range are small, the species has some redundancy throughout its range. However, the species' range is smaller than it was historically, and its population has been reduced by 90 percent over the past 20 years (Armonía 2018, p. 7; Boorsma 2023, pers. comm). We are not aware of any information about the genetic diversity in the southern helmeted curassow, and there is no information on the degree to which the species exhibits behavioral plasticity, so the ability to assess representation is limited for the species. However, the species likely has low representation because it is endemic to the three national parks within a narrow elevational band and occurs only within 10,700 km² (4,131 mi²).

Overall, the species has a small population and is considered rare and locally uncommon, and its population is decreasing (BLI 2018b, unpaginated; Birds of Bolivia 2019, unpaginated; BLI 2023b, unpaginated). The species is long-lived and has a long generation time and low reproductive output. Low reproductive output in conjunction with other factors like a high degree of habitat specialization, small population size, and low vagility typically equates to low innate adaptive capacity (Thurman et al. 2020, entire). The southern helmeted curassow's moderate redundancy combined with the species not likely being resilient to ongoing threats and having minimal capacity to adapt to ongoing threats limits the viability of the southern helmeted curassow. After assessing the best scientific and commercial data available, we conclude that the southern helmeted curassow currently lacks sufficient resiliency, redundancy, and representation for its continued existence to be secure.

After evaluating the best scientific and commercial data available regarding threats to the species and assessing the cumulative effect of the threats under the Act's section 4(a)(1) factors, we determine that the southern helmeted curassow is in danger of extinction throughout all of its range. The species does not fit the statutory definition of a threatened species because it is currently in danger of extinction, whereas threatened species are those likely to become in danger of extinction within the foreseeable future.

Status Throughout a Significant Portion of Their Ranges

Under the Act and our implementing regulations, a species may warrant listing if it is in danger of extinction or likely to become so in the foreseeable future throughout all or a significant portion of its range. We have determined that the Sira curassow is in danger of extinction throughout all of its range, and the southern helmeted curassow is in danger of extinction throughout all of its range, and accordingly we did not undertake an analysis of any significant portion of their ranges. Because the Sira curassow and southern helmeted curassow warrant listing as endangered throughout all of their ranges, our determination does not conflict with the decision in Center for Biological Diversity v. Everson, 435 F. Supp. 3d 69 (D.D.C. 2020), which vacated the provision of the Final Policy on Interpretation of the Phrase “Significant Portion of Its Range” in the Endangered Species Act's Definitions of “Endangered Species” and “Threatened Species” (79 FR 37578, July 1, 2014) providing that if the Services determine that a species is threatened throughout all of its range, the Services will not analyze whether the species is endangered in a significant portion of its range.

Determination of Status for the Sira Curassow and Southern Helmeted Curassow

Our review of the best available scientific and commercial data indicates that both the Sira curassow and the southern helmeted curassow meet the definition of an endangered species. Therefore, we are listing the Sira curassow and southern helmeted curassow as endangered species in accordance with sections 3(6) and 4(a)(1) of the Act.

Available Conservation Measures

The purposes of the Act are to provide a means whereby the ecosystems upon which endangered species and threatened species depend may be conserved, to provide a program for the conservation of such endangered species and threatened species, and to take such steps as may be appropriate to achieve the purposes of the treaties and conventions set forth in the Act. Conservation measures provided to species listed as endangered or threatened species under the Act include recognition as a listed species, planning and implementation of recovery actions, requirements for Federal protection, financial assistance for conservation programs, and prohibitions against certain activities.

Recognition through listing results in public awareness, and conservation by Federal, State, Tribal, and local agencies, foreign governments, private organizations, and individuals. The Act encourages cooperation with the States and other countries and calls for recovery actions to be carried out for listed species.

Our regulations at 50 CFR part 402 implement the interagency cooperation provisions found under section 7 of the Act. Under section 7(a)(1) of the Act, Federal agencies are to use, in consultation with and with the assistance of the Service, their authorities in furtherance of the purposes of the Act. Section 7(a)(2) of the Act, as amended, requires Federal agencies to ensure, in consultation with the Service, that any action authorized, funded, or carried out by such agency is not likely to jeopardize the continued existence of a listed species or result in destruction or adverse modification of its critical habitat.

A Federal “action” that is subject to the consultation provisions of section 7(a)(2) is defined in our implementing regulations at 50 CFR 402.02 as all activities or programs of any kind authorized, funded, or carried out, in whole or in part, by Federal agencies in the United States or upon the high seas. With respect to the Sira curassow and southern helmeted curassow, no known actions require consultation under section 7(a)(2) of the Act. Given the regulatory definition of “action,” which clarifies that it applies to activities or programs “in the United States or upon the high seas,” the Sira curassow and southern helmeted curassow are unlikely to be the subject of section 7 consultations, because the entire life cycles of the species occur in terrestrial areas outside of the United States and are unlikely to be affected by U.S. Federal actions. Additionally, we will not designate critical habitat for these species because, under 50 CFR 424.12(g), we will not designate critical habitat within foreign countries or in other areas outside of the jurisdiction of the United States.

Section 8(a) of the Act (16 U.S.C. 1537(a)) authorizes the provision of limited financial assistance for the development and management of programs that the Secretary of the Interior determines to be necessary or useful for the conservation of endangered or threatened species in foreign countries. Sections 8(b) and 8(c) of the Act (16 U.S.C. 1537(b) and (c)) authorize the Secretary to encourage conservation programs for foreign listed species, and to provide assistance for such programs, in the form of personnel and the training of personnel.

The Act and its implementing regulations set forth a series of general prohibitions and exceptions that apply to endangered wildlife. The prohibitions of section 9(a)(1) of the Act, codified at 50 CFR 17.21, make it illegal for any person subject to the jurisdiction of the United States to commit, to attempt to commit, to solicit another to commit or to cause to be committed any of the following acts with regard to any endangered wildlife: (1) import into, or export from, the United States; (2) take (which includes harass, harm, pursue, hunt, shoot, wound, kill, trap, capture, or collect) within the United States, within the territorial sea of the United States, or on the high seas; (3) possess, sell, deliver, carry, transport, or ship, by any means whatsoever, any such wildlife that has been taken illegally; (4) deliver, receive, carry, transport, or ship in interstate or foreign commerce, by any means whatsoever and in the course of commercial activity; or (5) sell or offer for sale in interstate or foreign commerce. Exceptions to the prohibitions for endangered species may be granted in accordance with section 10 of the Act and our regulations at 50 CFR 17.22.

We may issue permits to carry out otherwise prohibited activities involving endangered wildlife species under certain circumstances. Regulations governing permits for endangered species are codified at 50 CFR 17.22, and general Service permitting regulations are codified at 50 CFR part 13. With regard to endangered wildlife, a permit may be issued: for scientific purposes, for enhancing the propagation or survival of the species, or for take incidental to otherwise lawful activities. The statute also contains certain exemptions from the prohibitions, which are found in sections 9 and 10 of the Act.

The Service may also register persons subject to the jurisdiction of the United States through its captive-bred wildlife (CBW) program if certain established requirements are met under the CBW regulations (see 50 CFR 17.21(g)). Through a CBW registration, the Service may allow a registrant to conduct certain otherwise prohibited activities under certain circumstances to enhance the propagation or survival of the affected species, including take; export or re-import; delivery, receipt, carriage, transport, or shipment in interstate or foreign commerce in the course of a commercial activity; or sale or offer for sale in interstate or foreign commerce. A CBW registration may authorize interstate purchase and sale only between entities that both hold a registration for the taxon concerned. The CBW program is available for species having a natural geographic distribution not including any part of the United States and other species that the Service Director has determined to be eligible by regulation. The individual specimens must have been born in captivity in the United States.

It is the policy of the Service, as published in the Federal Register on July 1, 1994 (59 FR 34272), to identify to the maximum extent practicable at the time a species is listed, those activities that would or would not constitute a violation of section 9 of the Act. The intent of this policy is to increase public awareness of the effect of a listing on proposed and ongoing activities within the range of the species.

At this time, we are unable to identify specific activities that will not be considered likely to result in a violation of section 9 of the Act beyond what is already clear from the descriptions of prohibitions or already excepted through our regulations at 50 CFR 17.21. Also, as discussed above, certain activities that are prohibited under section 9 may be permitted under section 10 of the Act. We are unable to identify specific activities that will be considered likely to result in a violation of section 9 of the Act beyond what is already clear from the descriptions of the prohibitions at 50 CFR 17.21.

Applicable wildlife import/export requirements established under section 9(d) through (f) of the Act, the Lacey Act Amendments of 1981 (16 U.S.C. 3371, et seq.), and 50 CFR part 14 must also be met for the Sira curassow and southern helmeted curassow imports and exports. Questions regarding whether specific activities would constitute a violation of section 9 of the Act should be directed to the Management Authority (managementauthority@fws.gov; 703-358-2104).

Required Determinations

National Environmental Policy Act (42 U.S.C. 4321 et seq.)

Regulations adopted pursuant to section 4(a) of the Act are exempt from the National Environmental Policy Act (NEPA; 42 U.S.C. 4321 et seq.) and do not require an environmental analysis under NEPA. We published a notice outlining our reasons for this determination in the Federal Register on October 25, 1983 (48 FR 49244).

References Cited

A complete list of references cited in this rulemaking is available on the internet at https://www.regulations.gov in Docket No. FWS-HQ-ES-2023-0053 and upon request from the Headquarters Ecological Services Office (see FOR FURTHER INFORMATION CONTACT).

Authors

The primary authors of this rule are the staff members of the Fish and Wildlife Service's Species Assessment Team and the Branch of Delisting and Foreign Species.

List of Subjects in 50 CFR Part 17

Endangered and threatened species, Exports, Imports, Plants, Reporting and recordkeeping requirements, Transportation, Wildlife.

Regulation Promulgation

Accordingly, we amend part 17, subchapter B of chapter I, title 50 of the Code of Federal Regulations, as set forth below:

PART 17—ENDANGERED AND THREATENED WILDLIFE AND PLANTS

1. The authority citation for part 17 continues to read as follows:

Authority: 16 U.S.C. 1361-1407; 1531-1544; and 4201-4245, unless otherwise noted.

2. In § 17.11, amend paragraph (h) by adding an entry for “Curassow, Sira” and an entry for “Curassow, southern helmeted” to the List of Endangered and Threatened Wildlife in alphabetical order under BIRDS to read as set forth below:

§ 17.11 Endangered and threatened wildlife.

* * * * *

(h) * * *

Common name | Scientific name | Where listed | Status | Listing citations and applicable rules
* * * * * * *
Birds
* * * * * * *
Curassow, Sira | Pauxi koepckeae | Wherever found | E | 89 FR [INSERT FEDERAL REGISTER PAGE WHERE THE DOCUMENT BEGINS], 7/25/2024.
Curassow, southern helmeted (= horned curassow) | Pauxi unicornis | Wherever found | E | 89 FR [INSERT FEDERAL REGISTER PAGE WHERE THE DOCUMENT BEGINS], 7/25/2024.
* * * * * * *

Martha Williams,
Director, U.S. Fish and Wildlife Service.

[FR Doc. 2024-16003 Filed 7-24-24; 8:45 am]

BILLING CODE 4333-15-P